ADMINISTRATIVE COMMITTEE OF THE FEDERAL REGISTER

1 CFR Part 11

RIN 3095-AB35

Price Changes to Federal Register Publications

AGENCY: Administrative Committee of the Federal Register (ACFR).

ACTION: Final rule.

SUMMARY: The Administrative Committee of the Federal Register (ACFR) is prescribing the prices to be charged for the paper and microfiche editions of Federal Register publications. The price changes apply to the daily Federal Register (paper and microfiche editions), the Federal Register Index, the Code of Federal Regulations (CFR) (paper and microfiche editions), and the Weekly Compilation of Presidential Documents. The Administrative Committee has determined that it is necessary to increase prices to enable the Government Printing Office (GPO) to recover the full cost of producing and distributing Federal Register publications.

DATES: This final rule is effective April 19, 2004.

ADDRESSES: For access to supporting documents, go to http://www.archives.gov/federal_register/acfr/docket.html.

FOR FURTHER INFORMATION CONTACT: Michael White at (202) 741-6025 or michael.white@nara.gov.

SUPPLEMENTARY INFORMATION:

Background

Under the Federal Register Act (44 U.S.C. Chapter 15), the Administrative Committee of the Federal Register is responsible for prescribing the prices charged for Federal Register publications. These prices must be set according to the funding mechanisms authorized under law for the Federal Register program. By law, Federal Register publications are sold and distributed to the public by GPO's Superintendent of Documents. GPO receives no appropriation for the costs associated with producing Federal Register publications. Operating funds for the sales program are derived from subscribers and single copy buyers. The Administrative Committee periodically reviews data submitted by the Superintendent of Documents to determine whether subscription rates and single copy charges produce sufficient revenue to fully recover the Superintendent of Document's printing, handling, and distribution costs, including postal rate increases.

Over the past decade, the Administrative Committee has balanced two imperatives: the need to produce and price the paper editions of Federal Register publications in a fiscally sound manner, and the public benefit derived from making this essential regulatory information available to the public free of charge online via the GPO Access system (http://www.gpoaccess.gov/nara). Since 1994, when the Administrative Committee began providing online access to the Federal Register, the number of paid subscriptions has declined by 85 percent. The decline in paper subscription revenue far exceeds the savings realized from producing fewer paper copies. Over the same time period in which sales of Federal Register publications have fallen, use of online Federal Register publications through GPO Access has expanded rapidly. Information retrievals from the online edition of the Federal Register grew from just under 15 million documents in calendar year 1996 to over 68 million documents downloaded in calendar year 2002. Over the same period, information retrievals from the online edition of the CFR grew from about 725,000 documents to more than 87 million documents downloaded. At the same time, there are still some subscribers who prefer to pay for the convenience of receiving bound, paper editions for their libraries and internal distribution systems. The price of these paper publications must reflect the economic reality of producing and distributing them.

While the Federal Register Act does not provide any specific guidelines on the prices to be charged for Federal Register publications, the longstanding policy of the Administrative Committee is that the program should be operated on a break-even basis. Due to fluctuations in subscriptions and single copy buying patterns, some temporary funding shortfalls may be unavoidable. But it is implicit in the statutory scheme that the Federal Register sales program may not be operated over the long term with a built-in deficit caused by a known insufficiency of funds. GPO's current analysis indicates that the portion of its revolving fund dedicated to the Federal Register sales program has been depleted to the point that prices should be raised to support the program in the future.

To determine current costs and prepare a price schedule, the Superintendent of Documents conducted an in-depth study of actual costs from prior years and made conservative estimates of future costs. This final rule takes into account GPO's actual production and distribution costs since 2001 and projected costs for fiscal year 2004. The pricing analysis includes GPO's recent cost-cutting initiatives to streamline and improve its operations. Specific actions to cut costs that have been taken or are presently underway include: Reducing personnel expenses through an employee buyout plan; reorganizing the Superintendent of Documents organization and operations; consolidating distribution facilities; and closing GPO Bookstores. GPO has also reevaluated and subsequently reduced estimated handling charges as they apply to Federal Register products. The new handling charges of $1.46 per copy for the Federal Register (down from $2.39) and $1.59 for the CFR (down from $2.39) were factored into the pricing analysis.

Based on all the information available, it has been determined that price adjustments should be made to certain publications to accurately reflect the current costs of production and distribution, and thereby avoid running a deficit. A proposed rule was published on December 17, 2003, at 68 FR 70191. In the rulemaking analysis, the Administrative Committee projected that adopting the proposed pricing schedule would enable the Federal Register program to achieve full cost recovery, and invited public comment on the proposed pricing schedule. No comments were received.

In the past, ACFR price regulations have generally included postage in the prices listed. In this final rule, postage is excluded from the stated prices, except for single issues of certain editions, since postal rate making decisions and the timing of increases are separately determined by the United States Postal Service. Therefore, the prevailing postal rates will be applied to orders, based on the method of delivery requested by customers. The prices for single issues of the Federal Register (paper and microfiche) and the Weekly Compilation of Presidential Documents, and single volumes of the CFR on microfiche continue to include postage because the cost of delivery is only a small component of the total cost.

This final rule increases the subscription rates for the paper editions of the daily Federal Register, the Federal Register Index, the Code of Federal Regulations (CFR) and the Weekly Compilation of Presidential Documents. The cost to customers for the LSA (List of CFR Sections Affected), with postage calculated at the current periodical rate, is unchanged. The subscription rates and the single copy prices of the microfiche editions of the daily Federal Register and CFR also increase slightly. In addition, the Administrative Committee is prescribing a multi-tiered price schedule for single copies of the Federal Register to account for the true cost of publishing issues of varying size.

The following figures state the percentage of increase for Federal Register publications. To be consistent with past analyses, the calculation includes the current basic postal rates applicable to each publication. Under this analysis, it is necessary to increase the price of the paper Federal Register subscription by 21 percent, and the price of the paper CFR subscription by 12 percent. The average increase for all paper Federal Register subscriptions amounts to 16 percent. The overall price change for paper and microfiche editions combined amounts to a 14 percent increase. The increases are primarily attributable to higher labor expenses, paper costs, and a substantial decline in sales of printed publications, causing upward pressure on the average cost per subscription. Pricing for the microfiche editions of the Federal Register and the CFR are determined through a competitive bidding process.

While the rate increases discussed in this rulemaking will affect subscribers of the paper and microfiche editions, the success of our online publications demonstrates that the Federal Register system is fulfilling its mission to provide the broader public with essential information on the functions, actions, and regulatory requirements of the Federal government. The Office of the Federal Register (OFR) and GPO are constantly engaged in efforts to improve the quality of their online publications, including investments in new technology applications that will enhance e-government services to the public. In early 2003, the OFR and GPO helped the Environmental Protection Agency and other agency partners launch Regulations.gov as part of the President's eRulemaking initiative. OFR and GPO created a one-stop regulatory clearinghouse for this application to enhance public participation in the rulemaking process (see http://www.regulations.gov). This system is based, in large part, on OFR/GPO production systems and online Federal Register publications. More than 2 million users have accessed proposed and final regulations through this new resource, and the system has garnered a number of awards from various e-Government organizations. In addition, GPO, in consultation with OFR, recently completed an effort to thoroughly rewrite and reorganize its Federal Register and CFR Web pages to improve the user experience. And GPO is also actively engaged in acquiring a new search and retrieval engine for Federal Register databases, including the e-CFR, which is a prototype for a currently updated, online version of the CFR (http://www.gpoaccess.gov/ecfr). For members of the public who prefer to read the printed editions, GPO continues to provide free access to Federal Register publications at Federal Depository libraries located throughout the nation.

The Amendments

The increased prices for Federal Register publications are reflected in amendments to 1 CFR part 11. The following rates are effective 30 days after publication of this final rule. The annual subscription rate for the daily Federal Register paper edition is $749. For a combined Federal Register, Federal Register Index and LSA (List of CFR Sections Affected) subscription, the price is $808. The price of a single copy of the daily Federal Register is based on the number of pages: $11 for an issue less than 200 pages; $22 for an issue between 200 and 400 pages; and $33 for an issue with more than 400 pages. The annual subscription price of the microfiche edition of the Federal Register, which includes the Federal Register Index and LSA, is $165. The price of a single copy of the daily Federal Register microfiche edition is $3. The annual price for the Federal Register Index is $29. The annual subscription price for the monthly LSA is $30. The annual subscription rate for a full set of CFR volumes is $1,019 for the paper edition and $247 for the microfiche edition. The price of a single volume of the CFR microfiche edition is $4. The annual subscription rate for the Weekly Compilation of Presidential Documents is $113. The price of a single copy of the Weekly Compilation of Presidential Documents is $5.

Regulatory Analyses

Executive Order 12866

This final rule has been drafted in accordance with Executive Order 12866, section 1(b), “Principles of Regulation.” This rulemaking is not a significant regulatory action, as defined under section 3(f) of Executive Order 12866.

Regulatory Flexibility Act

The Regulatory Flexibility Act, 5 U.S.C. 601 et seq., does not apply to rate increases necessary to recover the costs to the government of printing and distributing Federal Register publications. This final rule will not have a significant impact on small entities because it does not impose any substantive requirements, and any increased costs may be avoided by accessing Federal Register publications on the Internet via the free GPO Access service. In addition, Federal depository libraries located throughout the nation provide free access to the bound paper editions or microfiche editions of Federal Register publications, as well as free use of computers for access to the online editions.

Federalism

This final rule has no federalism implications under Executive Order 13132. It does not impose compliance costs on State or local government or preempt State law.

Congressional Review

This rule is not a major rule as defined by 5 U.S.C. 804(2). A rule report, including a copy of this final rule, will be submitted to each House of the Congress and to the Comptroller General of the United States as required under the congressional review provisions of the Small Business Regulatory Enforcement Fairness Act of 1986.

List of Subjects in 1 CFR Part 11

Code of Federal Regulations, Federal Register, Government publications, Weekly Compilation of Presidential Documents.

For the reasons discussed in the preamble, the Administrative Committee of the Federal Register, with the approval of the Archivist of the United States and the Attorney General, is amending part 11 of chapter I of title 1 of the Code of Federal Regulations as set forth below:

PART 11—SUBSCRIPTIONS

1. The authority citation for part 11 continues to read as follows:

Authority: 44 U.S.C. 1506; sec. 6, E.O. 10530, 19 FR 2709, 3 CFR, 1954-1958 Comp., p. 189.

2. In § 11.2, revise paragraph (a) to read as follows:

§ 11.2 Federal Register.

(a) The subscription price for the paper edition of the daily Federal Register is $749 per year. A combined subscription to the daily Federal Register, the monthly Federal Register Index, and the monthly LSA (List of CFR Sections Affected) is $808 per year for the paper edition, or $165 per year for the microfiche edition. Six-month subscriptions for the paper and microfiche editions are also available at one-half the annual rate. Those prices exclude postage. The prevailing postal rates will be applied to orders according to the delivery method requested. The price of a single copy of the daily Federal Register, including postage, is based on the number of pages: $11 for an issue containing less than 200 pages; $22 for an issue containing 200 to 400 pages; and $33 for an issue containing more than 400 pages. Single issues of the microfiche edition may be purchased for $3 per copy, including postage.

* * * * *

3. In § 11.3, revise paragraph (a) to read as follows:

§ 11.3 Code of Federal Regulations.

(a) The subscription price for a complete set of the Code of Federal Regulations is $1,019 per year for the bound, paper edition, or $247 per year for the microfiche edition. Those prices exclude postage. The prevailing postal rates will be applied to orders according to the delivery method requested. The Government Printing Office sells individual volumes of the paper edition of the Code of Federal Regulations at prices determined by the Superintendent of Documents under the general direction of the Administrative Committee. The price of a single volume of the microfiche edition is $4 per copy, including postage.

* * * * *

4. In § 11.6, revise paragraph (a) to read as follows:

§ 11.6 Weekly Compilation of Presidential Documents.

(a) The subscription price for the paper edition of the Weekly Compilation of Presidential Documents is $113 per year, excluding postage. The prevailing postal rates will be applied to orders according to the delivery method requested. The price of an individual copy is $5, including postage.

* * * * *

5. Revise § 11.7 to read as follows:

§ 11.7 Federal Register Index.

The annual subscription price for the monthly Federal Register Index, purchased separately, in paper form, is $29. The price excludes postage. The prevailing postal rates will be applied to orders according to the delivery method requested.

6. Revise § 11.8 to read as follows:

§ 11.8 LSA (List of CFR Sections Affected).

The annual subscription price for the monthly LSA (List of CFR Sections Affected), purchased separately, in paper form, is $30. The price excludes postage. The prevailing postal rates will be applied to orders according to the delivery method requested.

John W. Carlin,
Chairman, Administrative Committee of the Federal Register.
Bruce R. James,
Member, Administrative Committee of the Federal Register.
Rosemary Hart,
Member, Administrative Committee of the Federal Register.
Approved by:
James B. Comey,
Deputy Attorney General.
John W. Carlin,
Archivist of the United States.

[FR Doc. 04-6198 Filed 3-17-04; 8:45 am]

BILLING CODE 1505-01-P